DEPARTMENT OF THE INTERIOR

Bureau of Land Management

[LLNM940000 L13110000.BX0000 14XL1109PF]

Notice of Filing of Plats of Survey, New Mexico

AGENCY: Bureau of Land Management, Interior.

ACTION: Notice of Filing of Plats of Survey.

SUMMARY: The plats of survey described below are scheduled to be officially filed in the New Mexico State Office, Bureau of Land Management, Santa Fe, New Mexico, thirty (30) calendar days from the date of this publication.

FOR FURTHER CONTACT INFORMATION: These plats will be available for inspection in the New Mexico State Office, Bureau of Land Management, 301 Dinosaur Trail, Santa Fe, New Mexico. Copies may be obtained from this office upon payment. Contact Marcella Montoya at 505-954-2097, or by email at mmontoya@blm.gov, for assistance. Persons who use a telecommunications device for the deaf (TDD) may call the Federal Information Relay Service (FIRS) at 1-800-877-8339 to contact the above individual during normal business hours.

SUPPLEMENTARY INFORMATION:

New Mexico Principal Meridian, New Mexico (NM)

The plat, representing the dependent resurvey and survey in Township 14 North, Range 14 West, of the New Mexico Principal Meridian, accepted March 27, 2014, for Group 1139 NM.

The plat, in six sheets, representing the dependent resurvey and survey in Township 19 North, Range 6 East, of the New Mexico Principal Meridian, accepted May 9, 2014, for Group 1133 NM.

The plat, representing the dependent resurvey and survey in Township 19 North, Range 8 East, of the New Mexico Principal Meridian, accepted May 19, 2014, for Group 1120 NM.

Sixth Principal Meridian, Kansas (KS)

The plat, representing the dependent resurvey and survey, in Township 8 South, Range 13 East, of the Sixth Principal Meridian, accepted May 8, 2014, for Group 38 KS. These plats are scheduled for official filing 30 days from the notice of publication in the Federal Register, as provided for in the BLM Manual Section 2097—Opening Orders. Notice from this office will be provided as to the date of said publication. If a protest against a survey, in accordance with 43 CFR 4.450-2, of the above plats is received prior to the date of official filing, the filing will be stayed pending consideration of the protest.

A plat will not be officially filed until the day after all protests have been dismissed and become final or appeals from the dismissal affirmed.

A person or party who wishes to protest against any of these surveys must file a written protest with the Bureau of Land Management New Mexico State Director stating that they wish to protest.

A statement of reasons for a protest may be filed with the Notice of Protest to the State Director or the statement of reasons must be filed with the State Director within thirty (30) days after the protest is filed.

Thomas A. Maestas,
Acting Branch Chief, Cadastral Survey.

[FR Doc. 2014-12778 Filed 6-2-14; 8:45 am]

BILLING CODE 4310-FB-P